FEDERAL RETIREMENT THRIFT INVESTMENT BOARD

5 CFR Part 1605

Correction of Administrative Errors

CFR Correction

This rule is being published by the Office of the Federal Register to correct an editorial or technical error that appeared in the most recent annual revision of the Code of Federal Regulations.

In Title 5 of the Code of Federal Regulations, Part 1200 to End, revised as of January 1, 2025, in § 1605.13, paragraph (a)(1) is corrected to read as follows:

§ 1605.13 Back pay awards and other retroactive pay adjustments.

(a) * * *

(1) If the participant is reinstated or retroactively appointed to a position that is covered by FERS, CSRS, or an equivalent system under which TSP participation is authorized, immediately upon reinstatement or retroactive appointment the employing agency must give the participant the opportunity to submit a contribution election to make current contributions. The contribution election will be effective as soon as administratively feasible, but no later than the first day of the first full pay period after it is received.

* * * * *

[FR Doc. 2025-13005 Filed 7-10-25; 8:45 am]

BILLING CODE 0099-10-P